INTERNATIONAL TRADE COMMISSION

[USITC SE-04-006]

Sunshine Act Meeting

Agency: International Trade Commission.

Time and Date: April 1, 2004 at 2 p.m.

Place: Room 100 (Courtroom A), 500 E Street SW., Washington, DC 20436, Telephone: (202) 205-2000.

Status: Open to the public.

Matters To Be Considered: 1. Agenda for future meetings: none.

2. Minutes.

3. Ratification List.

4. Inv. No. 731-TA-1070 (Preliminary) (Certain Tissue Paper Products and Crepe Paper Products from China)—briefing and vote. (The Commission is currently scheduled to transmit its determination to the Secretary of Commerce on or before April 2, 2004; Commissioners' opinions are currently scheduled to be transmitted to the Secretary of Commerce on or before April 9, 2004.)

5. Outstanding action jackets: None.

In accordance with Commission policy, subject matter listed above, not disposed of at the scheduled meeting, may be carried over to the agenda of the following meeting.

By order of the Commission:
Issued: March 22, 2004.
Marilyn R. Abbott,
Secretary to the Commission.

[FR Doc. 04-6688 Filed 3-22-04; 11:28 am]

BILLING CODE 7020-02-P